DEPARTMENT OF TRANSPORTATION

Federal Aviation Administration

Notice of Release of Land Affecting Federal Grant Assurance Obligations at Paso Robles Municipal Airport, Paso Robles, San Luis Obispo County, California

AGENCY: Federal Aviation Administration, DOT.

ACTION: Notice of request to release airport land.

SUMMARY: The Federal Aviation Administration (FAA) is considering a proposal and invites public comment to change a portion of the airport from aeronautical use to non-aeronautical use at Paso Robles Municipal Airport (PRB), San Luis Obispo County, California. The proposal consists of one parcel containing 22.07 acres of airport land located southwest corner of the airport facility North of Airport Road and West of Satellite Drive.

DATES: Comments must be received on or before October 14, 2022.

ADDRESSES: Comments on the request may be mailed or delivered to the FAA at the following address: Ms. Laurie J. Suttmeier, Manager, San Francisco Airports District Office, Federal Aviation Administration, 1000 Marina Boulevard, Suite 220, Brisbane, California, 94005-1835. In addition, one copy of the comment submitted to the FAA must be mailed or delivered to Mr. Mark Scandalis, Airport Manager, Paso Robles Municipal Airport, 4912 Wing Way, Paso Robles, California 93446.

SUPPLEMENTARY INFORMATION: The land was originally acquired from the federal government as surplus land, via quitclaim deed issued by the War Assets Administration on August 5, 1948. Subsequently, the County of San Luis Obispo transferred Paso Robles Municipal Airport to the City of Paso Robles which accepted the airport via Resolution on December 28, 1972. The land will be leased for non-aeronautical revenue generation. Such use of the land represents a compatible land use that will not interfere with the airport or its operation, thereby protecting the interests of civil aviation. The airport will be compensated for the fair market value of the use of the land.

In accordance with the Wendell H. Ford Aviation Investment and Reform Act for the 21st Century (AIR 21), Public Law 106-181 (Apr. 5, 2000; 114 Stat. 75), this notice must be published in the Federal Register 30 days before the DOT Secretary may waive any condition imposed on a federally obligated airport by surplus property conveyance deeds or grant agreements.

Issued in El Segundo, California, on September 9, 2022.
Brian Q. Armstrong,
Manager, Safety and Standards Branch, Airports Division, Western-Pacific Region.

[FR Doc. 2022-19874 Filed 9-13-22; 8:45 am]

BILLING CODE 4910-13-P